DEPARTMENT OF HEALTH AND HUMAN SERVICES

National Institutes of Health

Center for Scientific Review; Amended Notice of Meeting

Notice is hereby given of a change in the meeting of the Center for Scientific Review Special Emphasis Panel, May 18, 2009, 8 a.m. to May 18, 2009, 5 p.m., St. Gregory Hotel, 2033 M Street, NW., Washington, DC 20036 which was published in the Federal Register on April 21, 2009, 74 FR 18242-18243.

The meeting will be held May 19, 2009. The meeting time and location remain the same. The meeting is closed to the public.

Dated: April 24, 2009.
Jennifer Spaeth,
Director, Office of Federal Advisory Committee Policy.

[FR Doc. E9-10019 Filed 4-30-09; 8:45 am]

BILLING CODE 4140-01-M